DEPARTMENT OF TRANSPORTATION

Federal Aviation Administration

14 CFR Part 39

[Docket No. FAA-2008-1237; Directorate Identifier 2008-NM-125-AD]

RIN 2120-AA64

Airworthiness Directives; ATR Model ATR42-200, ATR42-300, ATR42-320, ATR42-500, ATR72-101, ATR72-201, ATR72-102, ATR72-202, ATR72-211, ATR72-212, and ATR72-212A Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

[C]hafed wirings were found in the rear baggage zone, closed [close] to the forward side of the aft pressure bulkhead, due to contact with an understructure securing screw. The concerned wiring harness includes rudder trim, pitch trim and stick pusher control wires. Damages on those wires might lead to the loss of fail safe criteria for those critical functions.

The unsafe condition is reduced controllability of the airplane. The proposed AD would require actions that are intended to address the unsafe condition described in the MCAI.

DATES: We must receive comments on this proposed AD by December 26, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2008-1237; Directorate Identifier 2008-NM-125-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0062, dated April 1, 2008 (referred to after this as “the MCAI”), to correct an unsafe condition for the specified products. The MCAI states:

One ATR operator reported some spurious “Pitch disconnect” warning and “AIL and R ELEV” Anti-Ice Horn Fault caution annunciations which precluded the use of the autopilot.

During the investigation, chafed wirings were found in the rear baggage zone, closed [close] to the forward side of the aft pressure bulkhead, due to contact with an understructure securing screw. The concerned wiring harness includes rudder trim, pitch trim and stick pusher control wires. Damages on those wires might lead to the loss of fail safe criteria for those critical functions.

To address the identified unsafe condition, this AD mandates a one-time inspection and a routing modification of the electrical wires in the bulkhead area.

The unsafe condition is reduced controllability of the airplane. The corrective action also includes contacting ATR for repair instructions and doing the repair if any damage (chafing or contact between bundles of cables and the airframe structure) is found during the one-time inspection. You may obtain further information by examining the MCAI in the AD docket.

Relevant Service Information

ATR has issued Service Bulletins ATR42-92-0015, ATR42-92-0018, ATR72-92-1016, and ATR72-92-1018, all dated February 11, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 48 products of U.S. registry. We also estimate that it would take about 5 work-hours per product to comply with the basic requirements of this proposed AD. The average labor rate is $80 per work-hour. Required parts would cost about $131 per product. Where the service information lists required parts costs that are covered under warranty, we have assumed that there will be no charge for these costs. As we do not control warranty coverage for affected parties, some parties may incur costs higher than estimated here. Based on these figures, we estimate the cost of the proposed AD on U.S. operators to be $25,488, or $531 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

ATR-GIE Avions de Transport Régional (Formerly Aerospatiale): Docket No. FAA-2008-1237; Directorate Identifier 2008-NM-125-AD.

Comments Due Date

(a) We must receive comments by December 26, 2008.

Affected ADs

(b) None.

Applicability

(c) This AD applies to the airplanes identified in paragraphs (c)(1), (c)(2), and (c)(3) of this AD, certificated in any category.

(1) ATR Model ATR42-200, ATR42-300, and ATR42-320 airplanes, all serial numbers, except serial numbers 1 through 107 inclusive, 110 through 112 inclusive, 114, and 115, and except airplanes on which ATR Service Bulletin ATR42-92-0018, dated February 11, 2008, has been incorporated.

(2) ATR Model ATR42-500 airplanes, all serial numbers, except serial numbers 667 and subsequent, and except airplanes on which ATR Service Bulletin ATR42-92-0018, dated February 11, 2008, has been incorporated.

(3) ATR Model ATR72-101, ATR72-201, ATR72-102, ATR72-202, ATR72-211, ATR72-212, and ATR72-212A airplanes, all serial numbers except serial numbers 756 and subsequent, and except airplanes on which ATR Service bulletin ATR72-92-1018, dated February 11, 2008, has been incorporated.

Subject

(d) Air Transport Association (ATA) of America Code 24: Electrical Power.

Reason

(e) The mandatory continuing airworthiness information (MCAI) states:

One ATR operator reported some spurious “Pitch disconnect” warning and “AIL and R ELEV” Anti-Ice Horn Fault caution annunciations which precluded the use of the autopilot.

During the investigation, chafed wirings were found in the rear baggage zone, closed [close] to the forward side of the aft pressure bulkhead, due to contact with an understructure securing screw. The concerned wiring harness includes rudder trim, pitch trim and stick pusher control wires. Damages on those wires might lead to the loss of fail safe criteria for those critical functions.

To address the identified unsafe condition, this AD mandates a one-time inspection and a routing modification of the electrical wires in the bulkhead area.

The unsafe condition is reduced controllability of the airplane. The corrective action also includes contacting ATR for repair instructions and doing the repair if any damage (chafing or contact between bundles of cables and the airframe structure) is found during the one-time inspection.

Actions and Compliance

(f) Unless already done, do the following actions.

(1) Within 550 flight hours after the effective date of this AD, perform a one-time detailed inspection for damage of the electrical routing in the rear baggage zone in accordance with the Accomplishment Instructions of ATR Service Bulletin ATR42-92-0015 or ATR72-92-1016, both dated February 11, 2008, as applicable.

(2) If any damage is found during the inspection required by paragraph (f)(1) of this AD, do the actions in paragraphs (f)(2)(i) and (f)(2)(ii) of this AD.

(i) Before further flight contact ATR for repair instructions, and do the repair.

(ii) Before further flight, modify the electrical routing and protective sleeve in the rear cargo compartment at frame 44 in accordance with the Accomplishment Instructions of ATR Service Bulletin ATR42-92-0018 or ATR72-92-1018, both dated February 11, 2008, as applicable.

(3) If no damage is found during the inspection required by paragraph (f)(1) of this AD: Within 5,000 flight hours after the effective date of this AD, modify the electrical routing and replace the protective sleeve in the rear cargo compartment at frame 44 in accordance with the Accomplishment Instructions of ATR Service Bulletin ATR42-92-0018 or ATR72-92-1018, both dated February 11, 2008, as applicable.

FAA AD Differences

Note 1: This AD differs from the MCAI and/or service information as follows:

(1) Although the MCAI or service information tells you to submit information to the manufacturer, such submittal is not required by this AD.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Rodriguez, Aerospace Engineer, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(h) Refer to MCAI EASA Airworthiness Directive 2008-0062, dated April 1, 2008, and ATR Service Bulletins ATR42-92-0015, ATR42-92-0018, ATR72-92-1016, and ATR72-92-1018, all dated February 11, 2008, for related information.

Issued in Renton, Washington, on November 16, 2008.
Stephen P. Boyd,
Assistant Manager, Transport Airplane Directorate, Aircraft Certification Service.

[FR Doc. E8-28163 Filed 11-25-08; 8:45 am]

BILLING CODE 4910-13-P